DEPARTMENT OF DEFENSE

Defense Acquisition Regulations System

[Docket Number DARS-2020-0023; OMB Control Number 0704-0446]

Information Collection Requirement; Defense Federal Acquisition Regulation Supplement (DFARS); Evaluation Factor for Use of Members of the Armed Forces Selected Reserve

AGENCY: Defense Acquisition Regulations System, Department of Defense (DoD).

ACTION: Notice and request for comments regarding a proposed extension of an approved information collection requirement.

SUMMARY: In compliance with section 3506(c)(2)(A) of the Paperwork Reduction Act of 1995, DoD announces the proposed revision of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection for use through November 30, 2020. DoD proposes that OMB extend its approval for use for three additional years beyond the current expiration date.

DATES: DoD will consider all comments received by November 9, 2020.

ADDRESSES: You may submit comments, identified by OMB Control Number 0704-0446, using any of the following methods:

Federal eRulemaking Portal: http://www.regulations.gov. Follow the instructions for submitting comments.

Email: osd.dfars@mail.mil. Include OMB Control Number 0704-0446 in the subject line of the message.

Mail: Defense Acquisition Regulations System, Attn: Ms. Carrie Moore, OUSD(A&S)DPC/DARS, 3060 Defense Pentagon, Room 3B938, Washington, DC 20301-3060.

Comments received generally will be posted without change to http://www.regulations.gov, including any personal information provided.

FOR FURTHER INFORMATION CONTACT: Ms. Carrie Moore, at 571-372-6093.

SUPPLEMENTARY INFORMATION: Title and OMB Number: Defense Federal Acquisition Regulation Supplement (DFARS): Evaluation Factor for Use of Members of the Armed Forces Selected Reserve; OMB Control Number 0704-0446.

Affected Public: Businesses or other for-profit and not-for profit institutions.

Respondent's Obligation: Required to obtain or retain benefits.

Type of Request: Revision.

Number of Respondents: 13.

Responses per Respondent: 1.

Annual Responses: 13.

Average Burden per Response: Approximately 20 hours.

Annual Burden Hours: 620.

Reporting Frequency: On occasion.

Needs and Uses: DFARS 215.370-3 prescribes the use of the provision at DFARS 252.215-7005, Evaluation Factor for Employing or Subcontracting with Members of the Selected Reserve, in solicitations that include an evaluation factor to provide a preference for offerors that intend to perform the contract using employees or individual subcontractors who are members of the Selected Reserve. The documentation provided by an offeror with their proposal will be used by contracting officers to validate that Selected Reserve members will be utilized in the performance of the contract. This information collection implements a requirement of section 819 of the National Defense Authorization Act for Fiscal Year 2006 (Pub. L. 109-163).

For solicitations that include the provision at DFARS 252.215-7005, the provision requires offerors to include documentation with their proposal that supports their intent to use employees or individual subcontractors who are members of the Selected Reserve in order to receive a preference under the associated evaluation factor. Such documentation may include, but is not limited to, existing company documentation indicating the names of the Selected Reserve members who are currently employed by the company, or a statement that positions will be set aside to be filled by Selected Reserve members, along with verifying documentation.

Jennifer Lee Hawes,
Regulatory Control Officer, Defense Acquisition Regulations System.

[FR Doc. 2020-19980 Filed 9-9-20; 8:45 am]

BILLING CODE 5001-06-P